DEPARTMENT OF THE INTERIOR

Fish and Wildlife Service

Recovery Plan for the Rough Popcornflower (Plagiobothrys hirtus)

AGENCY: Fish and Wildlife Service, Interior.

ACTION: Notice of document availability.

SUMMARY: The U.S. Fish and Wildlife Service (“we”) announce the availability of the final Recovery Plan for the Rough Popcornflower (Plagiobothrys hirtus) for distribution and use. Plagiobothrys hirtus is found only in the Umpqua River drainage in Douglas County, Oregon, at sites ranging from 100 to 230 meters (328 to 755 feet) in elevation. Extant, naturally occurring populations of this species occur along the Sutherlin Creek drainage from Sutherlin to Wilbur, adjacent to Calapooya Creek west of Sutherlin, and in roadside ditches near Yoncalla Creek just north of Rice Hill. The northernmost reported site is near Yoncalla, and the southernmost at Wilbur. Until 1998, all known sites were east of Interstate Highway 5 (I-5), but at that time a site was discovered at the junction of Stearns Lane and Highway 138, 0.9 kilometers (0.5 miles) west of I-5. The easternmost currently known extant population is just east of Plat K Road outside Sutherlin. Historic collections have been made farther east near Nonpareil, but recent surveys (1998 to 1999) did not locate any populations in this area.

ADDRESSES: Copies of the final recovery plan are available by written request addressed to the Field Supervisor, U.S. Fish and Wildlife Service, Roseburg Field Office, 2900 NW. Stewart Parkway, Roseburg, Oregon 97470. This final recovery plan is available on the World Wide Web at http://endangered.fws.gov/recovery/index.html#plans.

FOR FURTHER INFORMATION CONTACT: Craig Tuss at the above Roseburg address (telephone: 541-957-3474).

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. The draft recovery plan was available for public review and comment during a 60-day period from January 28, 2003, through March 31, 2003 (68 FR 4228). Four peer reviewers and two State agencies provided comments. Information presented during the public comment period has been considered in the preparation of this final recovery plan, and is summarized in the appendix to the recovery plan. We will forward substantive comments regarding recovery plan implementation to appropriate Federal or other entities so they can take these comments into account in the course of implementing recovery actions.

Plagiobothrys hirtus is a perennial herbaceous plant, but can be annual depending on environmental conditions. The species occurs in seasonal wetlands. The majority of sites occur on the Conser-type soil series which is characterized as poorly drained flood plain soils. Most of the sites are moderately to highly disturbed due to agricultural and development activities. Urban and agriculture development, invasion of nonnative species, habitat fragmentation and degradation, and other human-caused disturbances have resulted in substantial losses of seasonal wetland habitat throughout the species' historic range. Conservation needs include establishing a network of protected populations in natural habitat distributed throughout its native range.

A primary objective of this recovery plan is to reduce the threats to Plagiobothrys hirtus to the point it can be downlisted (reclassified) from endangered to threatened status.

Recovery goals include: (1) At least 9 reserves, containing a minimum of 5,000 plants each are protected and managed to assure their long term survival; (2) a minimum of 1,000 square meters (10,764 square feet) are occupied within each reserve, with at least 50 square meters (538 square feet) having a density of 100 plants/square meter (100 plants/11 square feet) or greater; (3) the 9 reserves are distributed among the 3 natural recovery zones (Calapooya Creek, Sutherlin Creek, and Yoncalla Creek), with at least 3 reserves present in each unit; (4) patches contained in each reserve are within 1 kilometer (0.6 mile) of each other to allow for pollinator movement and gene flow among them; (5) an average of 5 years of demographic data indicate that populations in at least 7 of the 9 reserves within the 3 recovery units have average population numbers that are stable or increasing, without decreasing trends lasting more than 2 years; and (6) 75 percent or more of the plants are reproductive each year, with 30 percent annual seed maturation and recruitment evident in all populations.

Authority

The authority for this action is section 4(f) of the Endangered Species Act, 16 U.S.C. 1533(f).

Dated: August 1, 2003.
Carolyn A. Bohan,
Regional Director, Region 1, U.S. Fish and Wildlife Service.

[FR Doc. 03-24280 Filed 9-24-03; 8:45 am]

BILLING CODE 4310-55-P